DEPARTMENT OF LABOR

Office of the Secretary

Submission for OMB Review; Comment Request

October 25, 2002.

The Department of Labor (DOL) has submitted the following public information collection request (ICR) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Employment Standards Administration (ESA).

Title: Application for Authority for an Institution of Higher Education to Employ Its Full-Time Students at Sub-minimum Wages Under Regulations Part 519.

OMB Number: 1215-0080.

Affected Public: Business or other-for-profit and individuals or households.

Frequency: Annually.

Estimated Time Per Response and Total Burden Hours:

Description | Total respondents | Total annual responses | Average minutes per response | Total burden (hours)
Initial Applications | 2 | 2 | 30 | 1.00
Renewal Applications | 13 | 13 | 15 | 3.25
Reporting Burden |  |  |  | 4.25
Record-keeping | 15 | 15 | 1 | .25
Total Reporting and Record-keeping |  |  |  | 5.00

Total Annualized Capital/Startup Costs: $0.

Total Annual Costs (operating/maintaining systems or purchasing services): $0.

Description: Section 14(b)(3) of the Fair Labor Standards Act (FLSA) authorizes the Secretary of Labor to provide certificates authorizing the employment of full-time students at sub-minimum wages in institutions of higher education to the extent necessary in order to prevent curtailment of opportunities for employment. The WH-201 application form provides the information necessary to ascertain whether the requirements of section 14(b) have been met. If this information were not collected, it would be difficult to ensure that use of a certificate has not curtailed full-time employment opportunities for other workers.

Ira L. Mills,
Departmental Clearance Officer.

[FR Doc. 02-27867 Filed 10-31-02; 8:45 am]

BILLING CODE 4510-27-P